DEPARTMENT OF TRANSPORTATION

Federal Railroad Administration

Safety Advisory 2003-03

AGENCY: Federal Railroad Administration (FRA), DOT.

ACTION: Notice of safety advisory.

SUMMARY: FRA is issuing Safety Advisory 2003-03, which provides additional information on the potential catastrophic failure of 100-ton truck bolsters manufactured by National Castings of Mexico's (NCM) Sahagun, Mexico facility with Association of America Railroads (AAR) Identification Numbers B-2410 and B-2409 and National Patterns 52122 and 52202, respectively, used in 263,000 pound and 286,000 pound gross rail load freight cars. These two bolster patterns were manufactured by NCM from 1995 through 1998 and were installed on 29,186 U.S. freight cars of various type construction. Additionally, an overview of the railroad industry's AAR Safety Action Plan for appropriate handling and disposition of these cars is contained in this advisory.

FOR FURTHER INFORMATION CONTACT: Ronald Newman, Staff Director, Motive Power and Equipment Division (RRS-14), FRA Office of Safety Assurance and Compliance, 1120 Vermont Avenue, NW., Washington, DC 20590, telephone: (202) 493-6241 of Thomas Herrmann, Staff Attorney, FRA Office of Chief Counsel, 1120 Vermont Avenue, NW., Washington, DC 20590, telephone: (202) 493-6036.

SUPPLEMENTARY INFORMATION: On December 30, 2002, FRA issued Safety Advisory 2002-03 which identified a problem with National Castings of Mexico (NCM) bolsters bearing AAR identification #B-2410, and National Pattern 52122 used in 263,000 and 286,000 pound gross rail load freight cars. In that advisory, FRA referenced AAR Maintenance Advisory MA-81 and AAR Early Warning Letters EW-5191, EW-5191-S1, and EW-5191-S2 that indicated there were as many as 15,000 freight cars in revenue service, which may be equipped with the NCM bolsters. Since publication of FRA Safety Advisory 2002-03, FRA has been made aware of another series of bolsters, AAR Identification # B-2409 and National Pattern 52202, which pose a similar potential safety hazard. The NCM bolsters with pattern 52202 have been referenced in AAR Early Warning Letters EW-5194, EW-5195, EW-5196, and EW-5197. The total estimated population of defective truck bolsters from both NCM patterns is 58,373 bolsters. This large number of truck bolsters represents a fleet of roughly 29,186 freight cars, which may be equipped with the defective NCM bolsters. Extensive fatigue testing of both types of bolsters (both patterns 52122 and 52202) at the AAR Transportation Test Center in Pueblo, CO and two other laboratories confirmed a tendency of these bolsters to develop internal cracking (design flaw) which can lead to sudden and catastrophic failure. The fatigue testing indicated that the action plan, as outlined by the AAR and contained herein, would be an appropriate industry response for dealing with these defective bolsters.

During the week of March 10, 2003, the AAR tendered its Industry Safety Action Plan (the Plan), to FRA for the handling of potentially defective NCM bolsters. In this plan, a unique risk analysis was developed by the AAR to prioritize the removal of the bolsters (from tank cars and other high risk commodity shipments) without causing industry operating impacts due to unavailable and/or extremely delayed equipment for loading. AAR's risk assessment was built upon hazardous material commodity classifications, mileage (utilization) factors, loading/impact factors, to arrive at a composite risk rating. AAR also considered the original equipment manufacturer (OEM), supply/demand and existing inventory of replacement bolsters when determining the degree of risk to be assigned to each car type identified as having been equipped with the defective bolsters.

The Plan approved and implemented by AAR's Technical Services Working Committee (TSWC) provided the following proactive safety measures:

1. Tank car owners must complete 20% of their HAZMAT cars (complete bolster replacements) no later than May 31, 2003, and a minimum of 20% per month, thereafter, with 100% replacement no later than September 30, 2003 (Group I, HAZMAT cars).

2. Mill gondola and coal cars (subject to vertical loading impacts) must have bolsters either replaced or requalified (via radiographic inspection) no later than December 31, 2003 (Group II cars).

3. All other cars must either have bolsters replaced or requalified (via radiographic inspection) no later than April 1, 2004 (Group III and Category III, Tank cars, non-HAZMAT service).

FRA recognizes that some of the dates in the AAR industry action plan have not been met for a variety of reasons, primarily the result of not having a sufficient quantity of replacement bolsters. AAR, the railroads and car owners have taken additional measures to ensure safety based on AAR's waiver review, cars held out of service and special inspection procedures. Since initiation of the Industry Safety Action Plan, there have been no reported in-service bolster failures.

It should be noted that FRA Hazardous Materials Regulations (HMR), contained in 49 CFR parts 171-180, set forth the requirements for the safe transportation of hazardous materials in commerce by railcar, aircraft, vessel, and motor vehicle. The HMR prescribe requirements for classification, packaging, hazard communication, shipping papers, incident reporting, handling, loading, unloading, segregation, and movement of hazardous materials. FRA understands that there may be as many as 3,300 tank cars originally equipped with either the NCM bolsters in pattern(s) 52122 or 52202, some of which may be in assigned hazardous materials shipments.

Recommended Action: In recognition of the need to assure safety, FRA recommends that railroads, manufacturers, and car owners make every attempt to adhere to the Industry Safety Action Plan developed by AAR and expedite wherever possible the handling of potentially defective NCM bolsters. FRA realizes that the industry has been delayed to some extent in meeting the time schedules detailed in the Safety Action Plan due to the short supply of replacement bolsters and the desire to minimize operating impacts. With this in mind, FRA expects owners of hazardous materials tank cars equipped with these defective bolsters to have the cars shopped once the cars become empty and NOT RELOAD until defective bolsters have been removed and once defective bolsters have been removed to so notify the AAR.

Failure of the rail industry to voluntarily take action consistent with the AAR Industry Safety Action Plan may result in FRA pursuing other corrective measures to enforce public safety under its rail safety authority. FRA may modify this Safety Advisory 2003-03, issue additional safety advisories, or take other appropriate action necessary to ensure the highest level of safety on the nation's railroads.

Issued in Washington, DC, on November 18, 2003.
George A. Gavalla,
Associate Administrator for Safety.

[FR Doc. 03-29338 Filed 11-21-03; 8:45 am]

BILLING CODE 4910-06-P